DEPARTMENT OF ENERGY

Federal Energy Regulatory Commission

[Docket Nos. IC10-60-001, IC10-61-001, and IC10-555A-001]

Commission Information Collection Activities (FERC Form 60,¹ FERC-61, and FERC-555A); Comment Request; Submitted for OMB Review

January 25, 2010.

AGENCY: Federal Energy Regulatory Commission, DOE.

¹ The rulemaking in Docket No. RM09-21-000 (“Revised Filing Requirements for Centralized Service Companies under the Public Utility Holding Company Act of 2005, the Federal Power Act, and the Natural Gas Act”) addresses clarifications to the FERC Form 60. The Final Rule (Order 731, issued 12/17/2009; 74 FR 68526, 12/28/2009) was submitted to OMB on 12/28/2009. The rulemaking in Docket No. RM09-21 is not a subject of this Notice in Docket No. IC10-60 et al.

ACTION: Notice.

SUMMARY: In compliance with the requirements of section 3507 of the Paperwork Reduction Act of 1995, 44 U.S.C. 3507, the Federal Energy Regulatory Commission (Commission or FERC) has submitted the information collections described below to the Office of Management and Budget (OMB) for review of the information collection requirements. Any interested person may file comments directly with OMB and should address a copy of those comments to the Commission as explained below. The Commission issued a Notice in the Federal Register (74 FR 53225, 10/16/2009) requesting public comments. FERC received no comments and has made this notation in its submission to OMB.

DATES: Comments on the collections of information are due by March 3, 2010.

ADDRESSES: Address comments on the collections of information to the Office of Management and Budget, Office of Information and Regulatory Affairs, Attention: Federal Energy Regulatory Commission Desk Officer. Comments to OMB should be filed electronically, c/o oira__submission@omb.eop.gov and include OMB Control Number 1902-0215 (for FERC Form 60, FERC-61, and FERC-555A) as a point of reference. For comments that pertain to only one or two of the collections, specify the appropriate collection. The Desk Officer may be reached by telephone at 202-395-4638.

A copy of the comments should also be sent to the Federal Energy Regulatory Commission and should refer to Docket Nos. IC10-60-001, IC10-61-001, and IC10-555A-001. (If comments apply to only one or two of the collections, indicate the corresponding dockets and collection numbers.) Comments may be filed either electronically or in paper format. Those persons filing electronically do not need to make a paper filing. Documents filed electronically via the Internet must be prepared in an acceptable filing format and in compliance with the Federal Energy Regulatory Commission submission guidelines. Complete filing instructions and acceptable filing formats are available at http://www.ferc.gov/help/submission-guide/electronic-media.asp. To file the document electronically, access the Commission's Web site and click on Documents & Filing, E-Filing (http://www.ferc.gov/docs-filing/efiling.asp), and then follow the instructions for each screen. First time users will have to establish a user name and password. The Commission will send an automatic acknowledgement to the sender's e-mail address upon receipt of comments.

For paper filings, the comments should be submitted to the Federal Energy Regulatory Commission, Secretary of the Commission, 888 First Street, NE., Washington, DC 20426, and should refer to Docket Nos. IC10-60-001, IC10-61-001, and IC10-555A-001 (or the appropriate docket numbers, if the comments pertain only to one or two of the collections).

All comments may be viewed, printed or downloaded remotely via the Internet through FERC's homepage using the “eLibrary” link. For user assistance, contact ferconlinesupport@ferc.gov or toll-free at (866) 208-3676 or for TTY, contact (202) 502-8659.

FOR FURTHER INFORMATION CONTACT: Ellen Brown may be reached by telephone at (202) 502-8663, by fax at (202) 273-0873, and by e-mail at ellen.brown@ferc.gov.

SUPPLEMENTARY INFORMATION: OMB Control Number 1902-0215 currently includes three information collections:

• FERC Form 60, “Annual Report of Centralized Service Companies”, pursuant to 18 CFR 369.1 and 366.23, with details at http://www.ferc.gov/docs-filing/forms.asp#60,

• FERC-61, “Narrative Description Of Service Company Functions”, pursuant to 18 CFR 366.23, and

• FERC-555A, “Preservation of Records of Holding Companies and Service Companies Subject to PUHCA” [Public Utility Holding Company Act of 2005], record retention requirements, pursuant to 18 CFR 366.22, and parts 367 and 368.

On August 8, 2005, the Energy Policy Act of 2005, was signed in to law, repealing the Public Utility Holding Company Act of 1935 (PUHCA 1935) and enacting the Public Utility Holding Company Act of 2005 (PUHCA 2005). Section 1264 (Federal books and records access provision) and Section 1275 (non-power goods and services provision) of PUHCA 2005 supplemented FERC's existing ratemaking authority under the Federal Power Act (FPA) to protect customers against improper cross-subsidization or encumbrances of public utility assets, and similarly, FERC's ratemaking authority under the Natural Gas Act (NGA). These provisions of PUHCA 2005 supplemented the FERC's broad authority under FPA Section 301 and NGA section 8 to obtain the books and records of regulated companies and any person that controls or is controlled by such companies if relevant to jurisdictional activities.

FERC Form 60. Form No. 60 is an annual reporting requirement under 18 CFR 366.23 for centralized service companies. The report is designed to collect financial information (including balance sheet, assets, liabilities, billing and charges for associated and non-associated companies) from centralized service companies subject to the jurisdiction of the FERC. Unless the holding company system is exempted or granted a waiver by Commission rule or order pursuant to 18 CFR 366.3 and 366.4, every centralized service company in a holding company system must prepare and file electronically with the FERC the Form No. 60, pursuant to the General Instructions in the form.

FERC-61. FERC-61 is a filing requirement for service companies in holding company systems (including special purpose companies) that are currently exempt or granted a waiver of FERC's regulations and would not have to file FERC Form 60. Instead, those service companies are required to file, on an annual basis, a narrative description of the service company's functions during the prior calendar year (FERC-61). In complying, a holding company may make a single filing on behalf of all of its service company subsidiaries.

FERC-555A. FERC prescribed preservation of records requirements for holding companies and service companies (unless otherwise exempted by FERC). This requires them to maintain and make available to FERC, their books and records. The preservation of records requirement provides for uniform records retention by holding companies and centralized service companies subject to PUHCA 2005.

Data from the FERC Form 60, FERC-61, and FERC-555A provide a level of transparency that: (1) Helps protect ratepayers from pass-through of improper service company costs, (2) enables FERC to review and determine cost allocations (among holding company members) for certain non-power goods and services, (3) aids FERC in meeting its oversight and market monitoring obligations, and (4) benefits the public, both as ratepayers and investors. In addition, the records are used by the FERC's audit staff during compliance reviews and special analyses.

If data from the FERC Form 60, FERC-61, and FERC-555A were not available, FERC would not be able to meet its statutory responsibilities, under EPAct 1992, EPAct of 2005, and PUHCA 2005, and FERC would not have all of the regulatory mechanisms necessary to ensure customer protection.

Action: The Commission is requesting a three-year extension of the current FERC Form 60, FERC-61, and FERC-555A requirements, with no changes.

Burden Statement: The estimated, average annual public reporting burden 2 3 follows.

FERC information collection | Annual no. of respondents: (1) | Average no. of reponses per respondent: (2) | Average burden hours per response: (3) | Total annual burden hours: (1) × (2) × (3)
FERC Form 60 ³ | 38 | 1 | 75.0 | 2,850
FERC-61 | 22 | 1 | .5 | 11
FERC-555A | 100 | 1 | 1,080.0 | 108,000
Total |  |  |  | 110,861

Note: The figures may not be exact, due to rounding.

The total estimated annual cost burdens to respondents follow.

² Employees work an average of 2,080 hours per year and cost an estimated $128,297 per year. The average hourly cost is $61.68125/hour [($128,297/year)/(2,080 hours/year)].

³ The burden figures provided here for the FERC Form 60 are updated (from those in the 60-day Notice in Docket No. IC10-60) to reflect the more recent estimates provided in Docket No. RM09-21 and the associated supporting statement submitted to OMB. There were no comments on the burden associated with reporting requirements in Docket No. RM09-21 or Docket No. IC10-60.

FERC information collection | Annual burden (hrs.): (1) | Average cost ($) per hour: (2) | Total annual cost ($): (1) × (2)
FERC Form 60 ³ | 2,850 | $120.00/hour | $342,000.00
FERC-61 ² | 11 | 61.68125/hour | 678.49
FERC-555A ⁴ | 108,000 | (⁴) | ⁴ 1,912,341.25
Totals |  |  | 2,255,019.74

The reporting burden includes the total time, effort, or financial resources expended to generate, maintain, retain, disclose, or provide the information including: (1) Reviewing instructions; (2) developing, acquiring, installing, and utilizing technology and systems for the purposes of collecting, validating, verifying, processing, maintaining, disclosing and providing information; (3) adjusting the existing ways to comply with any previously applicable instructions and requirements; (4) training personnel to respond to a collection of information; (5) searching data sources; (6) completing and reviewing the collection of information; and (7) transmitting, or otherwise disclosing the information.

⁴ Based on an estimated 120 cubic feet of paper records per respondent, the total estimated annual cost to all respondents is $1,912,341.25 [$1,836,000 (for staffing), plus $76,341.25 (for storage)]. However, the storage of paper (and related record retention and access) is more expensive than electronic storage, so savings are accomplished when documents are stored electronically (e.g., by using on-line electronic storage or removable storage media like CD-ROM or thumb drives). It would appear that these records are likely stored electronically, so the estimated cost ($1,912,341.25) of storage for paper only is the worst case estimate.

The estimate of cost for respondents is based upon salaries for professional and clerical support, as well as direct and indirect overhead costs. Direct costs include all costs directly attributable to providing this information, such as administrative costs and the cost for information technology. Indirect or overhead costs are costs incurred by an organization in support of its mission. These costs apply to activities which benefit the whole organization rather than any one particular function or activity.

Comments are invited on: (1) Whether the proposed collections of information are necessary for the proper performance of the functions of the Commission, including whether the information will have practical utility; (2) the accuracy of the agency's estimates of the burden of the proposed collections of information, including the validity of the methodology and assumptions used; (3) ways to enhance the quality, utility and clarity of the information to be collected; and (4) ways to minimize the burden of the collections of information on those who are to respond, including the use of appropriate automated, electronic, mechanical, or other technological collection techniques or other forms of information technology, e.g., permitting electronic submission of responses.

Kimberly D. Bose,
Secretary.

[FR Doc. 2010-1978 Filed 1-29-10; 8:45 am]

BILLING CODE 6717-01-P